DEPARTMENT OF DEFENSE

Office of the Secretary

[Docket ID: DoD-2016-OS-0049]

Proposed Collection; Comment Request

AGENCY: Office of the DoD Chief Information Officer, DoD.

ACTION: Notice.

SUMMARY: In compliance with the Paperwork Reduction Act of 1995, the Office of the DoD Chief Information Officer, announces a renewal of proposed public information collection and seeks public comment on the provisions thereof. Comments are invited on: (a) Whether the proposed collection of information is necessary for the proper performance of the functions of the agency, including whether the information shall have practical utility; (b) the accuracy of the agency's estimate of the burden of proposed information collection; (c) ways to enhance the quality, utility, and clarity of the information to be collected; and (d) ways to minimize the burden of the information collection on respondents, including through the use of automated collection techniques or other forms of information technology.

DATES: Consideration will be given to all comments received June 27, 2016.

ADDRESSES: You may submit comments, identified by docket number and title, by any of the following methods:

• Federal eRulemaking Portal: http://www.regulations.gov. Follow the instructions for submitting comments.

• Mail: Department of Defense, Office of the Deputy Chief Management Officer, Directorate of Oversight and Compliance, 4800 Mark Center Drive, Mailbox #24, Alexandria, VA 22350-1700.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please contact the DoD's DIB Cybersecurity Activities Office: (703) 604-3167, toll free (855) 363-4227, located at 1550 Crystal Dr., Suite 1000-A, Arlington, VA 22202.

SUPPLEMENTARY INFORMATION: Title; Associated Form; and OMB Number: DoD's Defense Industrial Base (DIB) Cybersecurity (CS) Activities Cyber Incident Reporting; OMB Control Number 0704-0489.

Needs and Uses: The information collection requirement is necessary to support mandatory cyber incident reporting requirements under 10 U.S.C. Section 393 (formerly Pub. L. 112-239, National Defense Authorization Act for Fiscal Year 2013, Section 941, Reports to Department of Defense on penetrations of networks and information systems of certain contractors) and 10 U.S.C. Section 391 (formerly Pub. L. 113-58, National Defense Authorization Act for Fiscal Year 2015, Section 1632, Reporting on Cyber Incidents with Respect to Networks and Information Systems of Operationally Critical Contractors).

Affected Public: Business or other for-profit and not for profit institutions.

Annual Burden Hours: 350,000.

Number of Respondents: 10,000.

Responses per Respondent: 5.

Annual Responses: 50,000.

Average Burden per Response: 7 hours.

Frequency: On occasion.

Respondents are DoD contractors who are required to report cyber incidents to the Department of Defense. The primary means of submitting a cyber incident report is through a secure unclassified web portal, but if a company is unable to access the secure web portal it may submit a cyber incident report through other means of communication (e.g., fax, telephone, or United States Postal Service). DoD contractors report cyber incidents that affect DoD information, facilitating cyber situational awareness, cyber threat information sharing, and better protection of unclassified defense information.

Dated: April 25, 2016.
Aaron Siegel,
Alternate OSD Federal Register, Liaison Officer, Department of Defense.

[FR Doc. 2016-09954 Filed 4-27-16; 8:45 am]

BILLING CODE 5001-06-P